FEDERAL COMMUNICATIONS COMMISSION

47 CFR Part 73

[DA 04-1730, MB Docket No. 03-258, RM-10833, 10864]

Radio Broadcasting Services; Centennial, WY, Gering, NE, Newcastle, WY, Pine Haven, WY, Scottsbluff, NE, and Warren AFB, WY

AGENCY: Federal Communications Commission.

ACTION: Final rule.

SUMMARY: This document grants a petition filed by Michael Radio Group, licensee of Station KRKI(FM), Newcastle, Wyoming by substituting Channel 258C0 for Channel 258A at Newcastle and by modifying the license of Station KRKI(FM) accordingly. To accommodate the allotment at Newcastle, this document also substitutes Channel 260A for Channel 259A at Pine Haven, Wyoming. See 69 FR 611, published January 6, 2004. Channel 258C0 can be allotted to Newcastle, Wyoming, in compliance with the minimum distance separation requirement of the Commission's rules, provided there is a site restriction 36.5 kilometers (22.7 miles) east of the community. The reference coordinates for Channel 258C0 at Newcastle are 43-52-10 NL and 103-45-04 WL. Channel 260A can be allotted to Pine Haven, in compliance with the minimum distance separation requirement of the Commission's Rules at city reference coordinates. The reference coordinates for Channel 260A at Pine Haven are 44-21-28 NL and 104-48-36 WL. Additionally, this document grants, in part, a counterproposal filed by Tracy Broadcasting Corporation by substituting Channel 226C1 for Channel 239C3 at Gering, Nebraska and by modifying the license of Station KOZY-FM accordingly. To accommodate, this document also substitutes Channel 225C2 for Channel 225C at Scottsbluff, Nebraska, reallots Channel 225C2 from Scottsbluff, Nebraska to Warren AFB, Wyoming, as its first local service, and modifies the license of Station KMOR(FM) accordingly, which requires the substitution of Channel 248A for vacant Channel 224A at Centennial, Wyoming. See SUPPLEMENTARY INFORMATION.

DATES: Effective August 9, 2004.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 03-258 adopted June 23, 2004, and released June 25, 2004. The full text of this Commission decision is available for inspection and copying during normal business hours in the Commission's Reference Center 445 Twelfth Street, SW., Washington, DC 20554. The complete text of this decision may also be purchased from the Commission's duplicating contractor, Qualex International Portals II, 445 12th Street, SW., Room CY-B402, Washington, DC, 20554, telephone 202-863-2893, facsimile 202-863-2898, or via e-mail qualexint@aol.com.

Channel 226C1 can be allotted to Gering in compliance with the Commission's minimum distance separation requirements provided there is a site restriction of 30.3 kilometers (18.8 miles) east of the community. The reference coordinates for Channel 226C1 at Gering are 41-54-26 North Latitude and 103-18-44 West Longitude. Channel 225C2 can be allotted to Warren AFB in compliance with the Commission's minimum distance separation requirements provided there is a site restriction of 12.5 kilometers (7.7 miles) south of the community. The reference coordinates for Channel 225C2 at Warren AFB are 41-02-38 North Latitude and 104-49-36 West Longitude. Channel 248A can be allotted to Centennial in compliance with the Commission's minimum distance separation requirements provided there is a site restriction of 12.1 kilometers (7.5 miles) east of the community. The reference coordinates for Channel 248A at Centennial are 41-19-03 North Latitude and 105-59-55 West Longitude.

The FM Table of Allotments has not been amended to reflect the grant of a license application for Station KRKI(FM) to specify operation on Channel 258A in lieu of Channel 257A at Newcastle, Wyoming (BLH-20030117AAS). This action constitutes an editorial change in the FM Table of Allotments. Moreover, we find for good cause that a public notice and comment proceeding is unnecessary. See 5 U.S.C. 553(b) (A) and (B).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Nebraska, is amended by removing Channel 239C3 and by adding Channel 226C1 at Gering; and by removing Channel 225C at Scottsbluff.

3. Section 73.202(b), the Table of FM Allotments under Wyoming, is amended by removing Channel 224A and by adding Channel 248A at Centennial; by removing Channel 257A and by adding Channel 258C0 at Newcastle; by removing Channel 259A and by adding Channel 260A at Pine Haven; and by adding Warren AFB, Channel 225C2.

Federal Communications Commission.
John A. Karousos,
Assistant Chief, Audio Division, Media Bureau.

[FR Doc. 04-16370 Filed 7-16-04; 8:45 am]

BILLING CODE 6712-01-P